DEPARTMENT OF ENERGY

Federal Energy Regulatory Commission

Notice of Application for Non-Project Use of Project Lands and Soliciting Comments, Motions To Intervene, and Protests

December 16, 2005.

Take notice that the following application has been filed with the Commission and is available for public inspection:

a. Application Type: Non-project use of Project Lands.

b. Project No.: 2232-503.

c. Date Filed: November 21, 2005.

d. Applicant: Duke Power, a division of Duke Energy Corporation.

e. Name of Project: Catawba-Wateree Project.

f. Location: The project is located on Lake Norman, in Catawba County, North Carolina.

g. Filed Pursuant to: Federal Power Act, 16 U.S.C. 791 (a) 825(r) and 799 and 801.

h. Applicant Contact: Joe Hall, Lake Management Representative, Duke Energy Corporation, P.O. Box 1006, Charlotte, NC 28201-1006, (704) 382-8576.

i. FERC Contact: Any questions on this notice should be addressed to Ms. Rebecca Martin at (202) 502-6012, or e-mail address: Rebecca.martin@ferc.gov.

j. Deadline for filing comments and or motions: January 17, 2006.

All documents (original and eight copies) should be filed with: Ms. Magalie R. Salas, Secretary, Federal Energy Regulatory Commission, 888 First Street, NE., Washington DC 20426. Please include the project number (P-2232-503) on any comments or motions filed. Comments, protests, and interventions may be filed electronically via the Internet in lieu of paper. See, 18 CFR 385.2001(a)(1)(iii) and the instructions on the Commission's Web site at http://www.ferc.gov under the “e-Filing” link. The Commission strongly encourages e-filings.

k. Description of Request: Duke Power is seeking authorization to lease to Syn-R-G, LLC, 0.973 acres of Project lands on Lake Norman for a Commercial/Residential Marina which will consist of a cluster dock with thirty-six boat docking locations. The proposed dock will consist of three individual piers to accommodate twelve boats each for a total of thirty-six docking locations. The cluster dock will be constructed off-site and floated into place during low peak lake recreation usage. These slips will serve the residents of the Long Island Airport Subdivision.

l. Location of the Application: This filing is available for review at the Commission in the Public Reference Room, 888 First Street, NE., Room 2A, Washington, DC 20426 or may be viewed on the Commission's Web site at http://www.ferc.gov using the “e-library” link. Enter the docket number excluding the last three digits in the docket number field to access the document. For assistance, call toll-free 1-866-208-3676 or e-mail FERCOnlineSupport@ferc.gov. For TTY, call (202) 502-8659. A copy is also available for inspection and reproduction at the address in item h. above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, or “MOTION TO INTERVENE”, as applicable, and the Project Number of the particular application to which the filing refers. A copy of any motion to intervene must also be served upon each representative of the Applicant specified in the particular application.

p. Agency Comments: Federal, state, and local agencies are invited to file comments on the described applications. Copies of the applications may be obtained by agencies directly from the Applicant. If an agency does not file comments within the time specified for filing comments, it will be presumed to have no comments. One copy of an agency's comments must also be sent to the Applicant's representatives.

Magalie R. Salas,
Secretary.

[FR Doc. E5-7912 Filed 12-27-05; 8:45 am]

BILLING CODE 6717-01-P